DEPARTMENT OF VETERANS AFFAIRS

Calculation of Average Wait Time for New and Established Patients

AGENCY: Department of Veterans Affairs.

ACTION: Notice and request for comment.

SUMMARY: Providing veterans with meaningful information to make informed decisions about their health care is a top priority for the Department of Veterans Affairs (VA). VA has published average wait times for primary care, mental health, and specialty care appointments at each of its medical centers since 2014. Since that time, VA has received feedback from veterans, caregivers, veterans service organizations, oversight authorities, and Congress, which led VA to revise the wait time metrics presented on the Access to Care website to better reflect veterans' experience. This notice describes this revised methodology. Additionally, VA is requesting public comment on the revised wait time metrics presented on the Access to Care website.

DATES: Comments must be received on or before 60 days after date of publication in the Federal Register.

ADDRESSES: Comments may be submitted through www.Regulations.gov. Comments received will be available at regulations.gov for public viewing, inspection, or copies.

FOR FURTHER INFORMATION CONTACT: Joseph Duran, Director, Policy and Planning, Office of Integrated Veteran Care (OIVC), Veterans Health Administration, Department of Veterans Affairs, 810 Vermont Avenue NW, Washington, DC 20420. VHA16IVCAccessAction@va.gov or 303-370-1637 (This is not a toll-free number).

SUPPLEMENTARY INFORMATION: Section 206 of the Veterans Access, Choice, and Accountability Act of 2014 (Pub. L. 113-146) requires the Department of Veterans Affairs (VA) to publish in the Federal Register, and on a publicly accessible internet website of each medical center of the Department, the wait-times for the scheduling of an appointment in each Department facility by a veteran for the receipt of primary care, specialty care, and hospital care and medical services based on the general severity of the condition of the veteran. Whenever the wait-times for the scheduling of such an appointment changes, VA is required to publish the revised wait-times on a publicly accessible internet website of each VA medical center by not later than 30 days after such change and in the Federal Register by not later than 90 days after such change. This notice announces VA's updates to the definition and calculation methodology for average wait times and publication of information on the use of Third Next Available Appointment (TNAA) for those VA medical centers that have implemented the new electronic health record.

To further improve user experience, VA has also upgraded the way average wait times are calculated and displayed on the website. Importantly, average wait times are never used to determine a veteran's eligibility for community care, and none of the changes on the website, as explained in this notice, affect a veteran's eligibility for community care. Rather, the average wait times that VA displays on its website represents a guide that can assist veterans in making informed health care decisions.

Average wait times for all VA medical centers and clinics (except those that have transitioned to VA's new Electronic Health Record (EHR)) are now calculated to include additional steps in the appointment process that had not been captured in the past. As of the date of the publication of this notice, the VA medical centers and clinics that have adopted the new EHR include: Spokane, WA; Walla Walla, WA; Columbus, OH and White City, OR. Averages are representative of general performance and may not represent individual experience, but the upgraded calculation makes the average wait times that VA displays on its website more reflective of the complete process of requesting and receiving care.

For purposes of the discussion below, veterans are considered new patients if they have not been seen by a provider or a clinical service at the same medical center for the same, or a related, health care need in the past three years. If they had an appointment in a clinical service at the same medical center for the same or similar health care need in the past three years (either in person or via phone/video), they are considered an established patient.

The revised calculation includes the following changes:

• For new patient appointments, the average wait time is calculated from the earliest recorded date in the scheduling system, to the date the appointment is completed, or the date it is scheduled to occur if it is not yet completed.

○ For example in many cases, veterans who need a new type of care will have a referral entered by their provider into the medical record during a visit, and this starts the care coordination process. For appointments with a referral, this referral date is the starting point used for measuring average wait times, and the end point is the date care is received or the date it is scheduled to occur if not yet completed.

○ For appointments without a referral, the average wait time starts with the earliest recorded date in the process of receiving care, typically the date a scheduler works with a veteran to coordinate a future appointment, and it ends on the date care is received or the date it is scheduled to occur if not yet completed.

• For established patient appointments, average wait times are measured from the date agreed upon between a veteran and provider for future care and ends on the date care is received, or the date that care is scheduled to occur if it has not yet occurred.

VA sites that have implemented the new EHR will display information known as Third Next Available Appointment (TNAA).¹ Other major health systems also use this measure, and it reflects availability for upcoming appointments so veterans can anticipate what their experience will be when they request care.

¹ Brar, Sumeet & Hopkins, Michael & Margolius, David. (2019). Time to Next Available Appointment as an Access to Care Metric. The Joint Commission Journal on Quality and Patient Safety. 45. 10.1016/j.jcjq.2019.07.007.

TNAA is a measure of appointment availability that displays the number of days between today's date and the date of the third-next appointment available in VA's scheduling system. The technology in our new EHR system allows us to use this more modern, industry standard measure at these sites. This measure is considered a more accurate measure of elective service availability than the next available appointment or second-next available appointment.

VA is transitioning to use of TNAA for several reasons, including that this measure informs veterans of their likely experience when seeking care. This will also ensure consistency in measuring appointment availability across VA medical centers as the enterprise transitions to a new EHR.

Note: As described above, averages that reflect a small number of appointments—for example, in a geographic area where only a few veterans seek a certain type of subspecialty care in any given month—may show average wait times that are skewed high or low due to the small number. The best way for veterans to find out when they can be seen is always to contact the local facility or use the online “Make an Appointment” button on www.accesstocare.va.gov.

Signing Authority

Denis McDonough, Secretary of Veterans Affairs, approved this document on July 19, 2022, and authorized the undersigned to sign and submit the document to the Office of the Federal Register for publication electronically as an official document of the Department of Veterans Affairs.

Jeffrey M. Martin,
Assistant Director, Office of Regulation Policy & Management, Office of General Counsel, Department of Veterans Affairs.

[FR Doc. 2022-15790 Filed 7-22-22; 8:45 am]

BILLING CODE 8320-01-P